LEGAL SERVICES CORPORATION

Sunshine Act Meeting: Board of Directors and Its Six Committees

FEDERAL REGISTER CITATION OF PREVIOUS ANNOUNCEMENT: 87 FR 16241.

PREVIOUSLY ANNOUNCED TIME AND DATE OF THE MEETING: April 4-5, 2022. On Monday, April 4, the first Committee meeting will begin at 9:30 a.m. Eastern Daylight Time (EDT), with the next meeting commencing promptly upon adjournment of the immediately preceding meeting. On Tuesday, April 5, the first Committee meeting will begin at 9:30 a.m. EDT, with the next meeting commencing promptly upon adjournment of the immediately preceding meeting.

CHANGES IN THE MEETING: The Legal Services Corporation (LSC) is revising the agenda for the combined meeting of the Audit and Finance Committees on Monday, April 4, 2022 to include a briefing by LSC management on the Fiscal Year 2021 Annual Financial Audit. All other agenda items and meeting details remain the same. This change is effective March 22, 2022. The updated agenda is as follows:

Monday, April 4, 2022

Combined Meeting of the Audit and Finance Committees

Open Session

1. Approval of Agenda

2. Presentation of Fiscal Year 2021 Annual Financial Audit

• Roxanne Caruso, Acting Inspector General

• Marie Caputo, Principal, CliftonLarsonAllen

3. Consider and Act on Motion to Suspend the Open Session Meeting and Proceed to a Closed Session

Closed Session

4. Management Briefing on Fiscal Year 2021 Annual Financial Audit

5. Opportunity to Ask Auditors Questions without Management Present

• Roxanne Caruso, Acting Inspector General

• Marie Caputo, Principal, CliftonLarsonAllen

6. Communication by Corporate Auditor with those Charged with Governance Under Statement on Auditing Standard 114

• Roxanne Caruso, Acting Inspector General

• Marie Caputo, Principal, CliftonLarsonAllen

7. Consider and Act on Motion to Adjourn the Closed Session Meeting and Resume the Open Session Meeting

Open Session

8. Consider and Act on Resolution #2022-XXX, Acceptance of the Draft Audited Financial Statements for Fiscal Year 2021 and Fiscal Year 2020

9. Public Comment

10. Consider and Act on Other Business

11. Consider and Act on Motion to Adjourn the Meeting

CONTACT PERSON FOR MORE INFORMATION: Kaitlin D. Brown, Executive and Board Project Coordinator, at (202) 295-1555. Questions may also be sent by electronic mail to brownk@lsc.gov.

Dated: March 22, 2022.
Kaitlin D. Brown,
Executive and Board Project Coordinator, Legal Services Corporation.

[FR Doc. 2022-06391 Filed 3-23-22; 11:15 am]

BILLING CODE 7050-01-P